DEPARTMENT OF COMMERCE

National Oceanic and Atmospheric Administration

[I.D. 030806B]

Fisheries of the Exclusive Economic Zone Off Alaska; Groundfish Fisheries in the Bering Sea, Aleutian Islands and Gulf of Alaska

AGENCY: National Marine Fisheries Service (NMFS), National Oceanic and Atmospheric Administration (NOAA), Commerce.

ACTION: Notice; intent to prepare an environmental impact statement; request for written comments.

SUMMARY: NMFS announces its intent to prepare the Alaska Groundfish Harvest Specifications Environmental Impact Statement (EIS), in accordance with the National Environmental Policy Act of 1969 (NEPA), for the Bering Sea and Aleutian Islands (BSAI) and the Gulf of Alaska (GOA) groundfish fisheries. The scope of the EIS will be to determine the impacts to the human environment resulting from setting groundfish harvest specifications. NMFS will hold a public scoping meeting and accept written comments from the public to determine the issues of concern and the appropriate range of management alternatives to be addressed in the EIS.

DATES: Written comments must be received by May 15, 2006. A scoping meeting will be held on Tuesday, April 4, 2006, from 7 to 9 p.m., Alaska local time.

ADDRESSES: Written comments on issues and alternatives for the EIS should be sent to Sue Salveson, Assistant Regional Administrator, Sustainable Fisheries Division, Alaska Region, NMFS, Attn: Records Officer. Comments may be submitted by:

• E-mail: EIS.Specifications.Intent@noaa.gov. Include in the subject line the following document identifier: Harvest Specs. E-mail comments, with or without attachments, are limited to 5 megabytes.

• Mail: P.O. Box 21668, Juneau, AK 99802.

• Hand Delivery to the Federal Building: 709 West 9th Street, Room 420A, Juneau, AK.

• Fax: 907-586-7557.

Meeting address: The meeting will be held in the Dillingham/Katmai room at the Hilton Hotel, 500 West 3rd Street, Anchorage, AK.

FOR FURTHER INFORMATION CONTACT: Ben Muse, (907) 586-7228 or ben.muse@noaa.gov.

SUPPLEMENTARY INFORMATION: NMFS is initiating this scoping process for the Alaska Groundfish Harvest Specifications EIS. NEPA requires preparation of an EIS for major Federal actions that may significantly impact the quality of the human environment. NMFS will incorporate into the EIS the written comments on the scope of the analysis generated during this scoping process.

Under the Magnuson-Stevens Fishery Conservation and Management Act (Magnuson-Stevens Act), the United States has exclusive fishery management authority over all living marine resources found within the exclusive economic zone. The management of these marine resources, with the exception of certain marine mammals and birds, is vested in the Secretary of Commerce (Secretary).

NMFS is seeking information from the public through the EIS scoping process on the range of alternatives to be analyzed, and on the environmental, social, and economic issues to be considered in the analysis.

Proposed Action

The proposed action is to set the harvest specifications in compliance with Federal regulations, the Fishery Management Plans (FMPs) for the BSAI and GOA groundfish fisheries, and the Magnuson-Stevens Act. Harvest specifications include the establishment of annual total allowable catches (TACs), and their seasonal apportionments and allocations, and prohibited species catch limits. TACs are harvest quotas that include retained and discarded catch.

Each year, the North Pacific Fishery Management Council (Council) recommends to the Secretary harvest specifications for the BSAI and the GOA groundfish fisheries. The Council establishes the harvest specifications using the overfishing levels and acceptable biological catches (ABCs) established by the Council's Groundfish Plan Teams and Scientific and Statistical Committee, and the optimum yield ranges established in the FMPs. After Secretarial review and approval, NMFs publishes the harvest specifications in the Federal Register. NMFS uses these harvest specifications to manage the groundfish fisheries.

The intent of the harvest specifications is to balance fish harvest during the fishing year with established total optimum yields and ecosystem needs. The harvest specifications are necessary for the management of the groundfish fisheries and the conservation of marine resources, as required by the Magnuson-Stevens Act and as described in the management policy, goals, and objectives in the groundfish FMPs.

Definition of Terms

The following terms are defined to assist the public in understanding the proposed action. These definitions are summarized from the FMPs, please refer to the FMPs for the exact language and additional details.

Optimum yield (OY) is the amount of fish that will provide the greatest overall benefit to the Nation, taking into account the protection of marine ecosystems.

Overfishing level (OFL) is set annually for a stock or stock complex following the criteria in the FMPs. Overfishing occurs when the harvest exceeds the overfishing level.

Acceptable biological catch (ABC) is an annual sustainable target harvest for a stock or stock complex. It is derived from the status and dynamics of the stock, environmental conditions, and other ecological factors, given the prevailing technological characteristics of the fishery.

Total allowable catch (TAC) is the annual harvest limit for a stock or stock complex, derived from the ABC by considering social and economic factors.

Alternatives

NMFS will evaluate a range of alternative harvest levels. Alternatives may include those identified here, and those developed through the public scoping process and through the Council process.

The alternatives in this analysis are based on a range of potential TACs because the harvest specifications are driven by the available ABCs and the Optimum Yield ranges that the Council considers each year when recommending TACs to NMFS. Each of the four alternatives represents different amounts of TAC that could be specified for managed species and species groups for each fishing year. The alternatives have been selected to display a wide range of TACs and their impacts on the environment. The four potential alternatives identified for analysis include:

Alternative 1: Set TACs to produce harvest levels equal to the maximum permissible ABCs, unless the sum of the TACs is constrained by the Optimum Yield established in the FMPs.

Alternative 2: Set TACs that fall within the range of ABCs recommended by the Council's Groundfish Plan Teams and TACs recommended by the Council.

Alternative 3: For stocks with a high level of scientific information, set TACs to produce harvest levels equal to the most recent five-year average actual fishing mortality rates. For stocks with insufficient scientific information, set TACs equal to the most recent five-year average actual catch.

Alternative 4: Set TACs equal to zero. This is the no action alternative, but does not reflect the status quo.

Preliminary Identification of Issues

A principal objective of the scoping and public input process is to identify potentially significant impacts to the human environment that should be analyzed in the EIS process. NMFS has conducted an initial screening to identify potentially significant impacts resulting from the harvest specifications. The analysis will evaluate the effects of the alternatives for all resources, species, and issues that may directly or indirectly interact with the groundfish fisheries within the action area, as a result of specified harvest levels. Impacts to the following components of the biological and physical environment may be evaluated: (1) Essential fish habitat; (2) species listed under the Endangered Species Act and their critical habitat, and species protected under the Marine Mammal Protection Act; (3) target and non-target fish stocks, including forage fish and prohibited species; (4) seabirds; and (5) the ecosystem.

Social and economic impacts also are considered in terms of the effects that changes in projected harvests will have on the following groups of individuals: (1) Those who participate in harvesting the fishery resources and other living marine resources; (2) those who process and market fish and fish products; (3) those who consume fish products; (4) those who rely on living marine resources in the management area, either for subsistence needs or for recreational benefits; (5) those who benefit from non-consumptive uses of living marine resources; and (6) fishing communities.

Public Involvement

Scoping is an early and open process for determining the scope of issues to be addressed in an EIS and for identifying the significant issues related to the proposed action. A principal objective of the scoping and public involvement process is to identify a reasonable range of management alternatives that, with adequate analysis, will delineate critical issues and provide a clear basis for distinguishing between those alternatives and for selecting a preferred alternative. In addition, NMFS is notifying the public that it is beginning an EIS and decision-making process for this proposed action so that interested or affected people may participate in the EIS and contribute to the final decision.

NMFS is seeking written public comments on the scope of issues that should be addressed in the EIS and alternatives that should be considered in establishing the harvest specifications. NMFS will accept comments in writing at the address above (see ADDRESSES). Written comments should be as specific as possible to be the most helpful. Written comments received during the scoping process, including the names and addresses of those submitting them, will be considered part of the public record on this proposal and will be available for public inspection.

The public is invited to attend the scoping meeting on Tuesday, April 4, 2006, in Anchorage, AK. The scoping meeting will be held in conjunction with the North Pacific Fishery Management Council meeting.

Please visit the NMFS Alaska Region web page at http://www.fakr.noaa.gov for more information on this EIS, guidance for submitting effective public comments, and to order a draft EIS. NMFS estimates that a draft EIS will be available in September 2006.

Special Accommodations

These meetings are physically accessible to people with disabilities. Requests for sign language interpretation or other auxiliary aids should be directed to Ben Muse, NMFS, (see ADDRESSES), (907) 586 7228, at least five days prior to the meeting date.

Authority: 16 U.S.C. 1801 et seq.

Dated: March 9, 2006.
Alan D. Risenhoover,
Acting Director, Office of Sustainable Fisheries, National Marine Fisheries Service.

[FR Doc. E6-3628 Filed 3-13-06; 8:45 am]

BILLING CODE 3510-22-S